DEPARTMENT OF HEALTH AND HUMAN SERVICES

National Institutes of Health

Submission for OMB Review; Comment Request; Web-Based Skills Training for SBIRT (Screening Brief Intervention and Referral to Treatment)

SUMMARY: Under the provisions of Section 3507(a)(1)(D) of the Paperwork Reduction Act of 1995, the National Institute on Drug Abuse (NIDA), the National Institutes of Health (NIH) has submitted to the Office of Management and Budget (OMB) a request for review and approval of the information collection listed below. This proposed information collection was previously published in the Federal Register on May 24, 2011, Vol 76, #100, page 30177-30178, and allowed 60 days for public comment. One request for the draft instruments was received from the public. These were provided to the requestor. The purpose of this notice is to allow an additional 30 days for public comment. The National Institutes of Health may not conduct or sponsor, and the respondent is not required to respond to, an information collection that has been extended, revised, or implemented on or after October 1, 1995, unless it displays a currently valid OMB control number.

Proposed Collection

Title: Web-based Skills Training for SBIRT (Screening Brief Intervention and Referral to Treatment).

Type of Information Collection Request: NEW.

Need and Use of Information Collection: The project aims to increase the provision of screening, brief intervention, and referral to treatment (SBIRT) for substance use in primary care by developing an engaging, interactive case-based training program that will be delivered over the Internet, providing convenient access to screening and brief intervention skills training and resources for busy PCPs. The goal of this study is to evaluate the effectiveness of this training on provider behavior and/or patient outcome and the program's utility as a training tool in a real-world medical setting. The training is named SBIRT-PC. Study participants will be randomly assigned to complete SBIRT-PC or a control training, consisting of online reading materials. Effectiveness will be evaluated in terms of differential SBIRT-related knowledge, attitudes, self-efficacy, self-reported clinical practices, skills as measured by virtual standardized patient evaluations (VSPE) and a telephone-based standardized patient (SP) interaction. Participants in each condition will also complete a training satisfaction questionnaire.

Frequency of Response: On occasion.

Affected Public: Private sector; businesses or other for-profit.

Type of Respondents: Primary Care Providers.

The annual reporting burden is as follows:

Type of respondents | Estimated number of respondents | Estimated number of responses per respondent | Average burden hours per set of responses | Estimated total annual burden hours requested
Primary Care Providers | 94 | 1 | 2.0 | 188

There are no Capital Costs to report. There are no Operating or Maintenance Costs to report.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: Desk Officer for NIH. To request more information on the proposed project or to obtain a copy of the data collection plans, contact: Quandra Scudder, Project Officer, National Institute on Drug Abuse NIDA, NIH, 6001 Executive Boulevard, Bethesda, MD 20892-9557, or call non-toll-free number (301) 594-0394 or E-mail your request, including your address to scudderq@nida.nih.gov.

Comments Due Date: Comments regarding this information collection are best assured of having their full effect if received within 30 days of the date of this publication.

Dated: August 4, 2011.
Mary Affeldt,
Executive Officer, (OM Director) NIDA.

[FR Doc. 2011-20542 Filed 8-11-11; 8:45 am]

BILLING CODE 4140-01-P